DEPARTMENT OF AGRICULTURE

Submission for OMB Review; Comment Request

March 18, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal & Plant Health Inspection Service

Title: Phytosanitary Certificates for Imported Articles to Prevent Introduction of Potato Brown Rot.

OMB Control Number: 0579-0221.

Summary of Collection: Under the Plant Protection Act (7 U.S.C. 7701-7772), the Secretary of Agriculture is authorized to prohibit or restrict the importation, entry or movement of plants and plant pest to prevent the introduction of plant pest into the United States. The regulations in 7 CFR Part 319 include a certification program for articles of Pelargonium spp. and Solanum spp. imported from countries where the bacterium Ralstonia solanacearum race 3 biovar 2 is known to occur. This bacterial strain causes potato brown rot, which causes potatoes to rot through, making them unusable and seriously affecting potato yields.

Need and Use of the Information: The Animal Plant and Health Inspection Service (APHIS) requires the collection of information through a phytosanitary certificate (foreign), trust funds, and compliance agreements. If the information is not collected, potato fields could become infected with the strain of R. solanacearum and this could drastically reduce or eliminate potato fields.

Description of Respondents: Business or other for-profit; Federal Government.

Number of Respondents: 27.

Frequency of Responses: Reporting: On occasion.

Total Burden Hours: 1,022.

Animal and Plant Health Inspection Service

Title: Importation of Fruits and Vegetables.

OMB Control Number: 0579-0316.

Summary of Collection: Under the Plant Protection Act (7 U.S.C. 7701 et.seq.), the Secretary of Agriculture is authorized to carry out operations or measures to detect, eradicate, suppress, control, prevent, or retard the spread of plant pest not known to be widely distributed throughout the United States. The regulations contained in Title 7 of the Code of Federal Regulations, Part 319 (Subpart Fruits and Vegetables), Sections 319.56 through 319.56-48 implement the intent of the Act by prohibiting or restricting the importation of certain fruits and vegetables into the United States from certain parts of the world to prevent the introduction and dissemination of fruit flies and other injurious plant pests that are new to the United States or not widely distributed within the United States.

Need and Use of the Information: The Animal and Plant Health Inspection Service (APHIS) will collect information using PPQ form 587, “Permit Application; Phytosanitary Certificate, Inspections, Records, Labeling and Trapping. If APHIS did not collect this information, the effectiveness of its Import Regulations would be severely compromised, likely resulting in the introduction of a number of destructive agricultural pests into the United States.

Description of Respondents: Business or other for-profit; Federal Government.

Number of Respondents: 2,959.

Frequency of Responses: Recordkeeping; Reporting: On occasion.

Total Burden Hours: 124,779.

Animal and Plant Health Inspection Service

Title: Viruses, Serums, Toxins, and Analogous Products; Suspension, Revocation, or Termination of Biological Licenses or Permits.

OMB Control Number: 0579-0318.

Summary of Collection: The Virus-Serum-Toxin Act (37 Stat. 832-833, 21 U.S.C. 151-159) gives the United States Department of Agriculture (USDA) the authority to promulgate regulations designed to prevent the importation, preparation, sale, or shipment of harmful veterinary biological products. A veterinary biological product is defined as all viruses, serums, toxins, and analogous product of natural or synthetic origin (such as vaccines, antitoxins, or the immunizing components of microorganisms intended for the diagnosis, treatment, or prevention of diseases in domestic animals). Under the Animal and Plant Health Inspection Service's (APHIS) regulations in section 105.3(a), the Center for Veterinary Biologics may notify a licensee or permittee to stop the preparation, sale, barter, exchange, shipment, or importation of any biological product if, at any time, it appears that such product may be dangerous in the treatment of domestic animals.

Need and Use of the Information: The licensee or permittee upon receiving notification from APHIS must immediately send stop distribution and sale notifications to all persons known to have such veterinary biologic in their possession and account for the remaining quantity of each serial or subserial of any such veterinary biologic at each location in the distribution channel known to the licensee or permittee. Failing to require the information from licensees and permittees could result in the continued use of veterinary biological products that are ineffective or harmful to animals.

Description of Respondents: Business or other for-profit.

Number of Respondents: 55.

Frequency of Responses: Reporting: On occasion.

Total Burden Hours: 106.

Ruth Brown,
Departmental Information Collection Clearance Officer.

[FR Doc. 2010-6386 Filed 3-23-10; 8:45 am]

BILLING CODE 3410-34-P